ENVIRONMENTAL PROTECTION AGENCY

[FRL-9970-84-Region 6]

Clean Air Act Operating Permit Program; Petitions for Objection to State Operating Permit for Big River Steel, LLC, Osceola, Arkansas

AGENCY: Environmental Protection Agency (EPA).

ACTION: Notice of final action.

SUMMARY: Pursuant to the Clean Air Act (CAA), the EPA Administrator signed an Order, dated October 31, 2017, denying a petition asking EPA to object to the operating permit issued by the Arkansas Department of Environmental Quality (ADEQ) to Big River Steel, LLC (Big River) for its Steel Mill. Title V operating permit number 2305-AOP-R0 was issued on September 18, 2013, by the ADEQ to Big River for a new steel mill in Osceola, Mississippi County, Arkansas. EPA's October 31, 2017, Order responds to a petition submitted on October 9, 2013 by the Nucor Steel-Arkansas and Nucor-Yamato Steel Company (the Petitioners), pursuant to the Clean Air Act (CAA or Act). The Act provides that a petitioner may ask for judicial review of those portions of the Orders that deny objections raised in the petitions in the appropriate United States Court of Appeals. Any petition for review shall be filed within 60 days from the date this notice appears in the Federal Register, pursuant to the Act.

ADDRESSES: You may review copies of the final Order, the petition, and other supporting information at EPA Region 6, 1445 Ross Avenue, Dallas, Texas 75202-2733.

EPA requests that if at all possible, you contact the individual listed in the FOR FURTHER INFORMATION CONTACT section to view copies of the final Order, petition, and other supporting information. You may view the hard copies Monday through Friday, from 9:00 a.m. to 3:00 p.m., excluding Federal holidays. If you wish to examine these documents, you should make an appointment at least 24 hours before the visiting day. Additionally, the final October 31, 2017, Order is available electronically at: https://www.epa.gov/sites/production/files/2017-10/documents/big_river_steel_response2013.pdf.

FOR FURTHER INFORMATION CONTACT: Dinesh Senghani at (214) 665-7221, email address: senghani.dinesh@epa.gov or the above EPA, Region 6 address.

SUPPLEMENTARY INFORMATION: The CAA affords EPA a 45-day period to review, and object, as appropriate, to a title V operating permit proposed by a state permitting authority. Sections 307(b) and 505(b)(2) of the CAA, 42 U.S.C. 7661d(b)(2), and 40 CFR 70.8(d) authorizes any person to petition the EPA Administrator, within 60 days after the expiration of this review period, to object to a title V operating permit if EPA has not done so. Petitions must be based only on objections to the permit that were raised with reasonable specificity during the public comment period provided by the state, unless the petitioner demonstrates that it was impracticable to raise these issues during the comment period or unless the grounds for the issue arose after this period.

EPA received the petition from the Petitioners on October 9, 2013, for the operating permit issued on September 18, 2013, to Big River Steel, LLC located in Osceola, Mississippi County, Arkansas.

The Petitioner requests that the Administrator object to the proposed operating permit issued by the ADEQ to Big River based on twelve claims. The claims are described in detail in Section IV of the Order. In summary, the issues raised are that: (1) ADEQ conducted an inadequate review of background air quality data; (2) the PM2.5 modeling is deficient because it excluded certain areas from the analysis; (3) the PM2.5 modeling is deficient because ADEQ failed to include secondary formation of PM2.5, and instead only included PM2.5 directly emitted by the facility; (4) ADEQ'S air quality impacts analysis for PM2.5 NAAQS was inadequate because there are discrepancies among different modeled PM2.5 annual impact values in or associated with the PM2.5 modeling.; (5) ADEQ and Big River failed to properly carry out an additional impacts analysis; (6) the emission factors for natural gas combustion used to issue the Draft Permit are conflicting; (7) Big River did not adequately demonstrate the basis for its proposed PM2.5 emission factors; (8) the Big River facility design was incomplete in critical ways that affected the validity of air quality modeling; (9) the permit does not contain enforceable permit conditions that lead to compliance; (10) the Permit does not contain adequate monitoring, recordkeeping, and reporting requirements to comply with the requirements of 40 CFR 70.6(a)(3)(i)(B) because it does not provide for a test method; (11) the Permit does not appropriately establish BACT requirements; and (12) ADEQ's Draft Permit does not comply with public notice and participation requirements. The Order issued on October 31, 2017, responds to the Petition and explains the basis for EPA's decision.

Dated: December 1, 2017.
Samuel Coleman,
Acting Regional Administrator, Region 6.

[FR Doc. 2017-26400 Filed 12-6-17; 8:45 am]

BILLING CODE 6560-50-P